DEPARTMENT OF THE INTERIOR

Fish and Wildlife Service

[FWS-HQ-R-2018-N030; FXGO1664091HCC0-FF09D00000-189]

International Wildlife Conservation Council; Public Meeting

AGENCY: Fish and Wildlife Service, Interior.

ACTION: Notice of meeting.

SUMMARY: In accordance with the Federal Advisory Committee Act, the U.S. Fish and Wildlife Service, announces a public meeting of the International Wildlife Conservation Council (Council).

DATES: Friday, March 16, 2018, from 9:30 a.m. to 4:30 p.m. (Eastern Daylight Time). For deadlines and directions on registering to attend, submitting written material, and giving an oral presentation, please see Public Input under SUPPLEMENTARY INFORMATION.

ADDRESSES: The meeting will be held in the South Penthouse at the Main Interior Building, 1849 C Street NW, Washington, DC 20240.

FOR FURTHER INFORMATION CONTACT: Joshua Winchell, Council Designated Federal Officer, by U.S. mail at the U.S. Fish and Wildlife Service, National Wildlife Refuge System, 5275 Leesburg Pike, Falls Church, VA 22041-3803; by telephone at (703) 358-2639; or by email at iwcc@fws.gov.

SUPPLEMENTARY INFORMATION: The Council provides advice and recommendations to the Secretary of the Interior (Secretary), regarding the benefits that result from United States citizens traveling to foreign nations to engage in hunting.

Background

Formed in December 2017, the Council is an advisory body whose duties include, but are not limited to:

(a) Developing a plan for public engagement and education on the benefits of international hunting.

(b) Reviewing and making recommendations for changes, when needed, on all Federal programs, and/or regulations, to ensure support of hunting as:

1. An enhancement to foreign wildlife conservation and survival; and

2. An effective tool to combat illegal trafficking and poaching.

(c) Recommending strategies to benefit the U.S. Fish and Wildlife Service's permit office in receiving timely country data and information so as to remove barriers that impact consulting with range states.

(d) Recommending removal of barriers to the importation into the United States of legally hunted wildlife.

(e) Ongoing review of import suspension/bans and providing recommendations that seek to resume the legal trade of those items, where appropriate.

(f) Reviewing seizure and forfeiture actions/practices, and providing recommendations for regulations that will lead to a reduction of unwarranted actions.

(g) Reviewing the Endangered Species Act's foreign listed species and interaction with the Convention on International Trade in Endangered Species of Wild Flora and Fauna, with the goal of eliminating regulatory duplications.

(h) Recommending methods for streamlining/expediting processing of import permits.

Meeting Agenda

The Council will convene to discuss issues including:

1. International wildlife conservation programs conducted by the U.S. Fish and Wildlife Service;

2. U.S. Government efforts to combat wildlife trafficking; and

3. Other Council business.

The final agenda will be posted on the internet at http://www.fws.gov/iwcc.

Attendance

To attend this meeting, register by close of business on the dates listed in Public Input. Please submit your name, time of arrival, email address, and phone number to the Council Designated Federal Officer (see FOR FURTHER INFORMATION CONTACT). Space is limited and requests to attend will be accommodated in the order they are received.

Public Input

If you wish to: | You must contact the Council Designated Federal Officer (see FOR FURTHER INFORMATION CONTACT) no later than:
Attend the meeting | March 12, 2018.
Submit written information or questions before the meeting for the Council to consider during the meeting | March 12, 2018.
Give an oral presentation during the public comment period | March 12, 2018.

Submitting Written Information or Questions

Interested members of the public may submit relevant information or questions for the Council to consider during the public meeting. Written statements must be received by the date in Public Input, so that the information may be made available to the Council for their consideration prior to this meeting. Written statements must be supplied to the Council Designated Federal Officer in the following formats: One hard copy with original signature, and/or one electronic copy via email (acceptable file formats are Adobe Acrobat PDF, MS Word, MS PowerPoint, or rich text file).

Giving an Oral Presentation

Depending on the number of people wishing to comment and the time available, the amount of time for individual oral comments may be limited. Interested parties must contact the Council Designated Federal Officer, in writing (preferably via email; see FOR FURTHER INFORMATION CONTACT), to be placed on the public speaker list for this meeting. Nonregistered public speakers will not be considered during the meeting. Registered speakers who wish to expand upon their oral statements, or those who had wished to speak but could not be accommodated on the agenda, may submit written statements to the Council Designated Federal Officer up to 30 days subsequent to the meeting. Requests to address the Council during the public comment period will be accommodated in the order the requests are received.

Public Disclosure of Comments

Before including your address, phone number, email address, or other personal identifying information in your comments, please be aware that your entire comment, including your personal identifying information, may be made publicly available at any time. While you can ask us in your comment to withhold your personal identifying information from public review, we cannot guarantee that we will be able to do so.

Meeting Minutes

Summary minutes of the conference will be maintained by the Council Designated Federal Officer (see FOR FURTHER INFORMATION CONTACT). They will be available for public inspection within 90 days of the meeting.

Authority: 5 U.S.C. Appendix 2.

Greg Sheehan,
Principal Deputy Director.

[FR Doc. 2018-04206 Filed 3-1-18; 8:45 am]

BILLING CODE 4333-15-P